DEPARTMENT OF TRANSPORTATION

Federal Aviation Administration

14 CFR Part 71

[Airspace Docket No. 00-AWP-4]

Revision to the Legal Description of the Hayward Air Terminal Class D Airspace Area, California

AGENCY: Federal Aviation Administration (FAA), DOT.

ACTION: Final rule.

SUMMARY: This action revises the legal description of the Hayward Air Terminal Class D airspace area by correcting a typographical error that refers to the Metropolitan Oakland International Airport, CA, Class A airspace area. The reference should indicate the Metropolitan Oakland International Airport, CA, Class C airspace area.

EFFECTIVE DATE: June 15, 2000.

FOR FURTHER INFORMATION CONTACT: Debra Trindle, Airspace Specialist, Airspace Branch, AWP-520.10, Air Traffic Division, Western-Pacific Region, Federal Aviation Administration, 15000 Aviation Boulevard, Lawndale, California 90261, telephone (310) 725-6613.

SUPPLEMENTARY INFORMATION:

History

During a routine airspace review, an error was discovered in the legal description of the Hayward Air Terminal Class D airspace area. In this description, a reference is made to the Metropolitan Oakland International Airport, CA, Class A airspace area. This error is typographical in nature. The reference should indicate the Metropolitan Oakland International Airport, CA, Class C airspace area.

Class D airspace areas are published in Paragraph 5000 of FAA Order 7400.9G, Airspace Designations and Reporting Points, dated September 1, 1999, and effective September 16, 1999, through September 15, 2000, which is incorporated by reference in 14 CFR 71.1. The Class D airspace designation listed in this document will be published subsequently in the Order.

The Rule

This amendment to 14 CFR part 71 of the Federal Aviation Regulations revises the legal description of the Hayward Air Terminal Class D airspace area, CA, by correcting the reference to the Metropolitan Oakland International Airport, CA, Class A airspace area to the Metropolitan Oakland International Airport, CA, Class C airspace area. This action is an administrative amendment to the legal description and will not change the actual dimensions, configuration, or operating requirements of the Hayward Class D airspace area.

The FAA has determined that this proposed regulation only involves an established body of technical regulations for which frequent and routine amendments are necessary to keep them operationally current. Therefore, this proposed regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule would not have a significant economic impact on a substantial number of small entities under the criteria of the Regulatory Flexibility Act.

List of Subjects in 14 CFR Part 71

Airspace, Incorporation by reference, Navigation (air).

The Proposed Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 5000 Class D Airspace

* * * * *

AWP CA D Hayward, CA [Amended]

Hayward Air Terminal, CA

(Lat. 37°39′34″ N, long. 122°07′21″W)

Metropolitan Oakland International Airport

(Lat. 37°43′17″ N, long. 122°13′15″ W)

That airspace extending upward from the surface to but not including 1,500 feet MSL within a 3.5 mile radius of the Hayward Air Terminal and within 1.8 miles each side of the 119° bearing from the Hayward Air Terminal, extending from the 3.5 mile radius to 5.2 miles southeast of the Hayward Air Terminal, excluding that portion within the Metropolitan Oakland International Airport, Class C airspace area. This Class D airspace area is effective during the specific dates and times established in advance by a Notice to Airmen. The effective date and time will thereafter be continuously published in the Airport/Facility Directory.

* * * * *

Issued in Los Angeles, California, on April 12, 2000.
John Claney,
Manager, Air Traffic Division, Western-Pacific Region.

[FR Doc. 00-10851 Filed 5-1-00; 8:45 am]

BILLING CODE 4910-13-M